DEPARTMENT OF HOMELAND SECURITY

Federal Emergency Management Agency

44 CFR Part 67

[Docket ID FEMA-2008-0020; Internal Agency Docket No. FEMA-B-1120]

Proposed Flood Elevation Determinations

AGENCY: Federal Emergency Management Agency, DHS.

ACTION: Proposed rule; correction.

SUMMARY: On June 3, 2010, FEMA published in the Federal Register a proposed rule that contained an erroneous table. This notice provides corrections to that table, to be used in lieu of the information published at 75 FR 31342. The table provided here represents the flooding sources, location of referenced elevations, effective and modified elevations, and communities affected for Tazewell County, Illinois, and Incorporated Areas. Specifically, it addresses the flooding sources Bull Run Creek, Dempsey Creek, Farm Creek, Fond Du Lac Creek, Illinois River, Lick Creek, Mackinaw River, Prairie Creek, and School Creek.

DATES: Comments are to be submitted on or before October 20, 2011.

ADDRESSES: You may submit comments, identified by Docket No. FEMA-B-1120, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064 or (e-mail) luis.rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 31342, in the June 3, 2010, issue of the Federal Register, FEMA published a table under the authority of 44 CFR 67.4. The table, entitled “Tazewell County, Illinois, and Incorporated Areas” addressed the flooding sources Bull Run Creek, Dempsey Creek, Farm Creek, Fond Du Lac Creek, Illinois River, Lick Creek, Mackinaw River, Prairie Creek, and School Creek. That table contained inaccurate information as to the location of referenced elevation, effective and modified elevation in feet, and/or communities affected for those flooding sources. In this notice, FEMA is publishing a table containing the accurate information, to address these prior errors. The information provided below should be used in lieu of that previously published.

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Tazewell County, Illinois, and Incorporated Areas
Bull Run Creek | Approximately 900 feet upstream of the Prairie Creek confluence | None | +655 | Unincorporated Areas of Tazewell County, Village of Morton.
| At the upstream side of Idlewood Street extended | None | +680
Dempsey Creek | Approximately 1.4 miles upstream of the Farm Creek confluence | None | +541 | Unincorporated Areas of Tazewell County.
| Approximately 2.56 miles upstream of the Farm Creek confluence | None | +603
Farm Creek | Approximately 770 feet upstream of the railroad bridge | None | +740 | Unincorporated Areas of Tazewell County.
| At the downstream side of Diebel Road | None | +742
Fond Du Lac Creek | At the Farm Creek confluence | None | +492 | City of East Peoria, Unincorporated Areas of Tazewell County.
| At the downstream side of East Washington Street (State Route 8) | None | +508
Illinois River | At the upstream side of Mason Road extended | +455 | +454 | City of Pekin, Unincorporated Areas of Tazewell County.
| Approximately 1,950 feet upstream of State Route 9 | +458 | +457
Lick Creek | Approximately 480 feet downstream of Parkway Drive | None | +472 | City of Pekin.
| Approximately 680 feet upstream of Parkway Drive | None | +476
Mackinaw River | Approximately 0.97 mile downstream of Dee Mac Road (County Highway 6) | None | +588 | Village of Mackinaw.
| Approximately 0.78 mile downstream of Dee Mac Road (County Highway 6) | None | +591
Prairie Creek | Approximately 0.49 mile downstream of the Bull Run Creek confluence | None | +648 | Unincorporated Areas of Tazewell County.
| Approximately 650 feet downstream of Farm Road | None | +657
School Creek | At the Farm Creek confluence | None | +496 | City of East Peoria, Unincorporated Areas of Tazewell County.
| Approximately 0.91 mile upstream of Gravel Pit Access Road | None | +640
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Mitigation Directorate, Federal Emergency Management Agency, 500 C Street SW., Washington, DC 20472.
ADDRESSES
City of East Peoria
Maps are available for inspection at City Hall, 100 South Main Street, East Peoria, IL 61611.
City of Pekin
Maps are available for inspection at City Hall, 111 South Capitol Street, Pekin, IL 61554.
Unincorporated Areas of Tazewell County
Maps are available for inspection at the McKenzie Building, 11 South 4th Street, 4th Floor, Pekin, IL 61554.
Village of Mackinaw
Maps are available for inspection at the Village Hall, 100 East Fast Avenue, Mackinaw, IL 61755.
Village of Morton
Maps are available for inspection at the Village Hall, 120 North Main Street, Morton, IL 61550.

(Catalog of Federal Domestic Assistance No. 97.022, “Flood Insurance.”)

Dated: July 8, 2011.
Sandra K. Knight,
Deputy Federal Insurance and Mitigation Administrator, Mitigation, Department of Homeland Security, Federal Emergency Management Agency.

[FR Doc. 2011-18630 Filed 7-21-11; 8:45 am]

BILLING CODE 9110-12-P